DEPARTMENT OF ENERGY

Federal Energy Regulatory Commission

[Project No. 4349-033]

EONY Generation Limited, Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: New Major License.

b. Project No.: 4349.

c. Date Filed: April 26, 2024.

d. Applicant: EONY Generation Limited (EONY).

e. Name of Project: Moose River Hydroelectric Project.

f. Location: On the Moose River in Lewis County, New York.

g. Filed Pursuant to: Federal Power Act, 16 U.S.C. 791(a)-825(r).

h. Applicant Contact: Rodney Foster, Manager, Maintenance and Asset Management, EONY Generation Limited, 2711 Hunt Club Road, P.O. Box 8700, Ottawa, Ontario, Canada K1G 3S4; telephone at (613) 225-0418, extension 7056; email at rodfoster@energyottawa.com.

i. FERC Contact: Kelly Wolcott, Project Coordinator, Great Lakes Branch, Division of Hydropower Licensing; telephone at (202) 502-6480; email at kelly.wolcott@ferc.gov.

j. Deadline for filing motions to intervene and protests, comments, recommendations, terms and conditions, and prescriptions: 60 days from the issuance date of this notice; reply comments are due 105 days from the issuance date of this notice. The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Moose River Hydroelectric Project (P-4349-033).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project includes a 454.6-foot-long dam that consists of: (1) a 88.3-foot-long southern section that includes: (a) a 28.3-foot-long non-overflow section; (b) a 7-foot-long non-overflow section with a 3-foot-long sluice gate; (c) a 32-foot-long intake structure with a 3-foot-long debris sluice gate and a 15-foot-long slide gate equipped with a trashrack with 2-inch clear bar spacing; and (d) a 21-foot-long section with a 10-foot-long stoplog gate; and (2) a 366.3-foot-long northern section that includes a 240-foot-long spillway with a crest elevation of 1,024.6 feet National Geodetic Vertical Datum of 1929 (NGVD 29) and a 58-foot-long, 0.5-foot-high notch.

The dam creates an impoundment that has a surface area of 21 acres at 1,024.6 feet NGVD 29. From the impoundment, water flows through the intake structure to an approximately 4,925-foot-long tunnel with a surge chamber, and then to a 93-foot-long penstock. The penstock conveys water to a 56.7-foot-long, 45-foot-wide powerhouse that contains a 12.6-megawatt Kaplan turbine-generator. Water is discharged from the turbine to an approximately 82.5-foot-long tailrace. From the impoundment, water also flows through the sluice gate and stoplog gate to a 120-foot-long excavated rock channel that discharges into the Moose River. The project creates an approximately 6,200-foot-long bypassed reach of the Moose River. The project also includes a 138.3-foot-long dike south of the project dam.

Project recreation facilities include: (1) a picnic area, an interpretive display, and a 900-foot-long interpretive trail through the historic Agers Mill Complex, collectively referred to as the Agers Falls Recreation Area, located on the south bank of the bypassed reach, approximately 400 feet downstream of the dam; (2) a 1-mile-long trail on the south bank of the bypassed reach, referred to as the Moose River Trail; (3) a 230-foot-long boat portage trail from a hand-carry boat access site on the north side of the dam to a hand-carry boat access site approximately 300 feet downstream of the dam; and (4) a hand-carry boat launch located on the south shoreline of the impoundment, approximately 850 feet upstream of the dam.

Electricity generated at the project is transmitted to the electric grid via a 540-foot-long, 13.8-kilovolt (kV) generator lead line and a switchyard that includes a 13.8/115-kV step-up transformer approximately 450 feet southeast of the powerhouse.

The minimum and maximum hydraulic capacities of the powerhouse are 200 and 1,300 cubic feet per second (cfs), respectively. The average annual energy production of the project from 2016 through 2022, was 51,350 megawatt-hours.

EONY proposes to remove approximately 15.9 acres of land from the project boundary, including land adjacent to the impoundment shoreline and bypassed reach. The proposed changes would decrease the amount of land and water enclosed by the project boundary from 184.3 to 168.4 acres.

EONY proposes to continue operating the project in a run-of-river mode and maintaining the same impoundment elevations as under the current license, including an elevation of 1,024.6 feet NGVD 29 during non-winter months and an elevation of 1,023.8 to 1,024.1 feet during winter months. EONY also proposes to: (1) release a year-round minimum bypassed reach flow of 80 cubic feet per second (cfs) or inflow, whichever is less, instead of 60 cfs under the current license; (2) implement an Impoundment Drawdown and Cofferdam Plan, Invasive Species Management Plan, and Bat and Eagle Protection Plan filed in the license application; (3) continue to maintain project recreation facilities and the interpretive display and trail through the historic Agers Mill Complex; (4) install directional signage at a non-project hand-carry boat take-out site along the Moose River; (5) continue to provide up to 20 whitewater flow releases per year between April 1 and October 1, with up to 4 of the 20 releases scheduled between June 1 and September 30; (6) continue generator ramping during whitewater release days as under the current license; (7) consult with the New York State Historic Preservation Officer (New York SHPO) on the need for any surveys or protection measures prior to implementing any land-disturbing activities in the project boundary; and (8) to protect previously unidentified cultural resources that are discovered during any construction, stop construction and consult with the New York SHPO to determine the need for any surveys or protection measures.

m. A copy of the application can be viewed on the Commission's website at http://www.ferc.gov using the “eLibrary” link. Enter the docket number excluding the last three digits in the docket number field to access the document (i.e., P-4349). For assistance, please contact FERC Online Support (see item j above).

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

The Commission's Office of Public Participation (OPP) supports meaningful public engagement and participation in Commission proceedings. OPP can help members of the public, including landowners, community organizations, Tribal members, and others access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, please contact FERC Online Support (see item j above).

o. The applicant must file no later than 60 days following the date of issuance of this notice: (1) a copy of the water quality certification; (2) a copy of the request for certification, including proof of the date on which the certifying agency received the request; or (3) evidence of waiver of water quality certification.

p. Procedural schedule: The application will be processed according to the following schedule. Revisions to the schedule will be made as appropriate.

Milestone—Target Date

Filing of Motions to Intervene, Protests, Comments, Recommendations, Terms and Conditions, and, Prescriptions—June 2025

Filing of Reply Comments—August 2025;

q. Final amendments to the application must be filed with the Commission no later than 30 days from the issuance date of this notice.

Dated: May 1, 2025.
Carlos D. Clay,
Deputy Secretary.

[FR Doc. 2025-07954 Filed 5-6-25; 8:45 am]

BILLING CODE 6717-01-P